DEPARTMENT OF HEALTH AND HUMAN SERVICES

National Institutes of Health

National Heart, Lung, and Blood Institute; Amended Notice of Meeting

Notice is hereby given of a change in the meeting of the National Heart, Lung, and Blood Advisory Council, June 14, 2001, 8:30 AM to June 14, 2001, 2 PM, National Institutes of Health, Building 31, C Wing, Conference Room 10, 9000 Rockville Pike, Bethesda, MD, 20892 which was published in the Federal Register on May 4, 2001, 66 FR 22589.

The National Heart, Lung, and Blood Advisory Council's open session start time has changed from 8:30 AM to 8 AM. Date and location remain the same. The meeting is partially closed to the public.

Dated: May 31, 2001.
LaVerne Y. Stringfield,
Director, Office of Federal Advisory Committee Policy.

[FR Doc. 01-14363 Filed 6-6-01; 8:45 am]

BILLING CODE 4140-01-M